DEPARTMENT OF STATE

[Public Notice: 10455]

30-Day Notice of Proposed Information Collection: Maintenance of Records by DDTC Registrants

ACTION: Notice of request for public comment.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to July 25, 2018.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

Fax: 202-395-5806. Attention: Desk Officer for Department of State.

FOR FURTHER INFORMATION CONTACT: Direct requests for additional information regarding the collection listed in this notice, including requests for copies of the proposed collection instrument and supporting documents, to Andrea Battista, SA-1, 12th Floor, Directorate of Defense Trade Controls, Bureau of Political Military Affairs, U.S. Department of State, Washington, DC 20522-0112, via phone at (202) 663-3136, or via email at battistaal@state.gov.

SUPPLEMENTARY INFORMATION:

• Title of Information Collection: Maintenance of Records by Registrants.

• OMB Control Number: 1405-0111.

• Type of Request: Extension of a currently approved collection.

• Originating Office: Directorate of Defense Trade Controls (PM/DDTC).

• Form Number: No form.

• Respondents: Persons registered with DDTC who conduct business regulated by the International Traffic in Arms Regulations (ITAR, 22 CFR parts 120-130).

• Estimated Number of Respondents: 9,100.

• Estimated Number of Responses: 9,100.

• Average Time per Response: 20 hours.

• Total Estimated Burden Time: 182,000 hours.

• Frequency: Annually.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this notice are public record. Before including any detailed personal information, you should be aware that your comments as submitted, including your personal information, will be available for public review.

Abstract of Proposed Collection

The ITAR requires persons registered with DDTC to maintain records pertaining to defense trade-related transactions. This information collection approves the record-keeping requirements imposed on registrants by the ITAR. Respondents to this collection may submit their records to DDTC as supporting documentation for disclosures of potential violations of the AECA. The method by which respondents submit these records is approved under OMB control no. 1405-0179. DDTC uses these records to analyze industry compliance processes and procedures, and to help assess whether the activity in question might merit administrative sanctions or referral to the Department of Justice for possible criminal prosecution.

Methodology

Respondents may maintain records in any format consistent with the provisions in ITAR § 122.5.

Anthony M. Dearth,
Managing Director (Acting), Directorate of Defense Trade Controls, Department of State.

[FR Doc. 2018-13515 Filed 6-22-18; 8:45 am]

BILLING CODE 4710-25-P